DEPARTMENT OF ENERGY

Federal Energy Regulatory Commission

[Project No. 12690-005]

Public Utility District No. 1 of Snohomish County, WA; Notice of Application Accepted for Filing, Ready for Environmental Analysis, Soliciting Motions To Intervene and Protests, Soliciting Comments, Recommendations, Terms and Conditions, and Fishway Prescriptions, and Waiving the Timing Requirement for Filing Competing Development Applications

Take notice that the following hydrokinetic pilot project license application has been filed with the Commission and is available for public inspection.

a. Type of Application: Pilot Project License.

b. Project No.: 12690-005.

c. Date Filed: March 1, 2012.

d. Applicant: Public Utility District No. 1 of Snohomish County, Washington (Snohomish PUD).

e. Name of Project: Admiralty Inlet Pilot Tidal Project.

f. Location: On the east side of Admiralty Inlet in Puget Sound, Washington, about 1 kilometer west of Whidbey Island, entirely within Island County, Washington. The project would not occupy any federal lands.

g. Filed Pursuant to: Federal Power Act, 16 U.S.C. 791(a)-828(c).

h. Applicant Contact: Steven J. Klein, Public Utility District No. 1 of Snohomish County, Washington, P.O. Box 1107, 2320 California Street, Everett, WA 98206-1107; (425) 783-8473.

i. FERC Contact: David Turner (202) 502-6091.

j. Deadline for filing motions to intervene and protests, comments, recommendations, terms and conditions, and fishway prescriptions: 30 days from the issuance of this notice; reply comments are due 60 days from the issuance date of this notice.

Motions to intervene, protests, comments, recommendations, terms and conditions, and fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis (EA).

l. The Project Description: The proposed Admiralty Inlet Pilot Tidal Project would consist of: (1) Two 19.7-foot-diameter Open-Centre turbines, supplied by OpenHydro Group Ltd., mounted on completely submerged gravity foundations; (2) two transmission cables which run from the turbines to the cable termination vault; (3) two transmission cables from the cable termination vault to the proposed cable control building; (4) a cable control building housing the power conditioning and monitoring equipment; (5) a transmission cable bringing power from the cable control building to an existing 12.47-kilovolt transmission line; and (6) appurtenant facilities for operation and maintenance. The estimated average annual generation of the project is 216,000 kilowatt-hours.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b) except to the extent that this notice establishes deadlines different from those in the regulation. Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following Hydro Licensing Schedule. Revisions to the schedule may be made as appropriate.

Milestone | Due date
Filing of recommendations, terms and conditions, and fishway prescriptions | May 23, 2012.
Commission issues Single EA | July 23, 2012.
Comments on EA | August 22, 2012.

p. Waiver of deadline to file competing applications filed pursuant to a notice of intent (NOI):

Any qualified applicant desiring to file a competing application must submit to the Commission, on or before the specified intervention deadline date, a competing development application or an NOI to file such an application. Section 4.36(b)(2) of the Commission's regulations, which allows 120 days from the specified intervention deadline date for interested parties to file competing development applications in which timely NOIs have been submitted, is hereby waived. Due to the expedited nature of the pilot project licensing procedures, the submission of a timely NOI will instead allow an interested person to file the competing development application no later than 30 days after the specified intervention deadline date. Applications for preliminary permits will not be accepted in response to this notice.

An NOI must specify the exact name, business address, and telephone number of the prospective applicant, and must include an unequivocal statement of intent to submit a development application. An NOI must be served on the applicant named in this public notice.

Dated: April 23, 2012.
Kimberly D. Bose,
Secretary .

[FR Doc. 2012-10221 Filed 4-26-12; 8:45 am]

BILLING CODE 6717-01-P